DEPARTMENT OF EDUCATION

[CFDA No. 84.116M]

Fund for the Improvement of Postsecondary Education (FIPSE)—Special Focus Competition: U.S.-Brazil Higher Education Consortia Program

ACTION: Extension; Notice extending the deadline dates.

SUMMARY: We extend the Deadline for Transmittal of Applications and Deadline for Intergovernmental Review dates in the notice published on November 13, 2008 (73 FR 67137).

SUPPLEMENTARY INFORMATION: On November 13, 2008, we published a notice in the Federal Register (73 FR 67137) inviting applications for new awards for fiscal year (FY) 2009 for the Fund for the Improvement of Postsecondary Education (FIPSE)—Special Focus Competition: U.S.-Brazil Higher Education Consortia Program. The Deadline for Transmittal of Applications date (as published on pages 67137 and 67138) is extended to January 22, 2009 and the Deadline for Intergovernmental Review date (as published on pages 67137 and 67138) is extended to March 23, 2009. All other requirements and conditions stated in the notice remain the same.

FOR FURTHER INFORMATION CONTACT: Sarah T. Beaton, Fund for the Improvement of Postsecondary Education, U.S.-Brazil Higher Education Consortia Program, 1990 K Street, NW., room 6154, Washington, DC 20006-8544. Telephone: (202) 502-7621.

If you use a TDD, call the FRS, toll free, at 1-800-877-8339.

Individuals with disabilities can obtain this document in an alternative format (e.g., braille, large print, audiotape, or computer diskette) on request to the program contact person listed under FOR FURTHER INFORMATION CONTACT.

Electronic Access to This Document: You can view this document, as well as all other documents of this Department published in the Federal Register, in text or Adobe Portable Document Format (PDF), on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: December 12, 2008.
Cheryl A. Oldham,
Acting Assistant Secretary for Postsecondary Education.

[FR Doc. E8-29981 Filed 12-16-08; 8:45 am]

BILLING CODE 4000-01-P